DEPARTMENT OF JUSTICE

Notice of Lodging of Supplemental Consent Decree to First Round De Minimis Consent Decree Under the Comprehensive Environmental Response, Compensation and Liability Act

Notice is hereby given that on August 31, 2005, a proposed Supplemental Consent Decree to the First Round De Minimis Consent Decree in United States v. Chevy Chase Cars, Inc., et al., Civil Action No. 05-1222, was lodged with the United States District Court for the Western District of Pennsylvania. This Supplemental Consent Decree relates to two other matters before the same Court: United States v. Allegheny Ludlum Corp., et al., C.A. No. 97-1863 and United States v. Aetna, Inc., et al. C.A. No. 05-15. All three matters are Superfund cost recovery actions commenced by the United States against potentially responsible parties relating to the Breslube Penn Superfund Site in Coraopolis, Moon Township, Pennsylvania.

In the Chevy Chase Car, Inc., et al. action, the United States seeks the recovery of response costs incurred in connection with the Breslube Penn Superfund Site. The complaint alleges that each of the named defendants arranged for the treatment and/or disposal of wastes containing hazardous substances at the Site, within the meaning of 42 U.S.C. 9607(a)(3). The complaint names 22 defendants, each of which have signed the proposed Supplemental Consent Decree to the First Round De Minimis Consent Decree. Under the Supplemental Consent Decree, each of the named defendants would pay a proportionate share of all past and future response costs incurred and to be incurred at the Site, plus a premium. In return for these payments, each defendant would receive a covenant not to sue by the United States, subject to certain reservations of rights, and contribution protection from suit by other potentially responsible parties. However, because two of the settlors/named defendants chose a lower settlement premium with a “reopener,” their liability can be reopened in the event that Site future response costs exceed $26 million. The other twenty settlors/named defendants selected a higher settlement premium, with no “reopener” provision. The total recovery under this Consent Decree should be approximately $270,000.

The Department of Justice will receive for a period of thirty (30) days from the date of this publication comments relating to this Supplemental Consent Decree. Comments should be addressed to the Assistant Attorney General, Environment and Natural Resources Division, P.O. Box 7611, U.S. Department of Justice, Washington, DC 20044-7611, and should refer to United States v. Chevy Chase Cars, Inc., et al., D.J. Ref. 90-11-3-1762/2.

The Chevy Chase Cars, Inc., et al. Consent Decree may be examined at the Office of the United States Attorney for Western District of Pennsylvania, at 700 Grant Street, Suite 400, Pittsburgh, PA 15219 (ask for Jessica Lieber Simolar), and at U.S. EPA Region III's Office, 1650 Arch Street, Philadelphia, PA (ask for Mary Rugala). During the public comment period, the United States v. Chevy Chase Cars, Inc., et al. consent decree, may also be examined on the following Department of Justice Web site, http://www.usdoj.gov/enrd/open.html. A copy of the consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $11.00 (25 cents per page reproduction cost) for a full copy of the consent decree, or $6.50, for a copy without signature pages, payable to the U.S. Treasury.

Robert Brook,
Assistant Chief, Environmental Enforcement Section, Environment and Natural Resources Division.

[FR Doc. 05-18296 Filed 9-14-05; 8:45 am]

BILLING CODE 4410-15-M